ENVIRONMENTAL PROTECTION AGENCY

40 CFR Part 81

[PA181-4181a; FRL-7399-4]

Approval and Promulgation of Air Quality Implementation Plans; Designation of Areas for Air Quality Planning Purposes; Pennsylvania; Redesignation of the Allegheny County Carbon Monoxide Nonattainment Area and Approval of Miscellaneous Revisions

Correction

In rule document 02-28495 beginning on page 68521 in the issue of Tuesday, November 12, 2002, make the following correction:

§ 81.339 [Corrected]

On page 68526, in the table, in ¶81.339, in the second column, under the date heading, “1/13/02” should read, “1/13/03.”

[FR Doc. C2-28495 Filed 1-10-03; 8:45 am]

BILLING CODE 1505-01-D

FEDERAL COMMUNICATIONS COMMISSION

47 CFR Parts 73 and 76

[MM Docket No. 98-204; FCC-02-303]

RIN 4223

Review of the Commission's Broadcast and Cable Equal Employment Opportunity Rules and Policies

Correction

Federal Register document 02-32474 was inadvertently published in the Rules and Regulations section in the issue of Tuesday, December 24, 2002, on pages 78387-78388. It should have appeared in the Proposed Rules section.

[FR Doc. C2-32474 Filed 1-10-03; 8:45 am]

BILLING CODE 1505-01-D

OFFICE OF PERSONNEL MANAGEMENT

Federal Employees' Group Life Insurance Program: New Age Bands and New Premiums

Correction

In notice document 02-32891 beginning on page 79659 in the issue of Monday, December 30, 2002 make the following corrections:

1. On page 79660, in the second column, in the 14th line, “not” should read, “no”.

2. On the same page, in the same column, in the 19th line, “declaining” should read, “declining”.

3. On the same page, in the third column, in the first full paragraph, in the fourth line, “not” should read, “no”.

4. On the same page, in the same column, in the same paragraph, in the 10th line, “increases” should read, “increase”.

5. On the same page, in the same column, the second full paragraph, in the second line “(Ages s70-74)” should read, “(Ages 70-74)”.

6. On the same page, in the same column, in the same paragraph, in the third line, “Ages 80 & Over)” should read, “(Ages 80 & Over)”.

[FR Doc. C2-32891 Filed 1-10-03; 8:45 am]

BILLING CODE 1505-01-D

DEPARTMENT OF TRANSPORTATION

Federal Aviation Administration

14 CFR Part 71

[Docket No. FAA-2002-14089; Airspace Docket No. 02-ACE-13]

Modification of Class E Airspace; Caruthersville, MO

Correction

In rule document 03-61 beginning on page 490 in the issue of Monday, January 6, 2003, make the following corrections:

1. On page 490, in the third column, under the heading The Direct Final Rule Procedure, in the ninth line, “designation” should read, “designating”.

2. On the same page, in the same column, under the same heading, in the 21st line, “below” should read, “above”.

3. On the same page, in the same column, under the heading Comments Invited, in the fitfh line, “basic” should read, “basis”.

[FR Doc. C3-61 Filed 1-10-03; 8:45 am]

BILLING CODE 1505-01-D